DEPARTMENT OF THE INTERIOR

Bureau of Ocean Energy Management

[Docket ID: BOEM-2018-0060]

Outer Continental Shelf (OCS), Gulf of Mexico (GOM), Oil and Gas Lease Sales for 2020

AGENCY: Bureau of Ocean Energy Management (BOEM), Interior.

ACTION: Notice of intent to prepare a supplemental environmental impact statement.

SUMMARY: Consistent with the regulations implementing the National Environmental Policy Act (NEPA), BOEM is announcing its intent to prepare a Supplemental Environmental Impact Statement (EIS), which is expected to be used to inform the decisions for each of the two proposed lease sales scheduled in 2020 and the subsequent lease sales through 2022 (2020 GOM Supplemental EIS) that are comprised of the Western and Central Planning Areas, and a small portion of the Eastern Planning Area not subject to Congressional moratorium. These planning areas are located off the States of Texas, Louisiana, Mississippi, Alabama, and Florida.

FOR FURTHER INFORMATION CONTACT: For information on the 2020 GOM Supplemental EIS or BOEM's policies associated with this notice, please contact Ms. Helen Rucker, Chief, Environmental Assessment Section, Office of Environment (GM 623E), Bureau of Ocean Energy Management, Gulf of Mexico OCS Region, 1201 Elmwood Park Boulevard, New Orleans, Louisiana 70123-2394, telephone 504-736-2421, or email at helen.rucker@boem.gov.

SUPPLEMENTARY INFORMATION: The Council on Environmental Quality's NEPA implementing regulations encourage agencies to analyze similar or related proposals in one EIS (40 CFR 1508.25). Since the proposed lease sale area and the reasonably foreseeable OCS oil and gas activities are similar among GOM lease sales, BOEM plans to use the 2020 GOM Supplemental EIS, and the EISs it tiers from, to support decisions on lease sales proposed to be held in the GOM from 2020 through 2022. The 2020 GOM Supplemental EIS will tier from the 2017-2022 GOM Multisale EIS and the 2018 GOM Supplemental EIS, and will focus on any changes in the proposed action or the new information released since their publication. The resource estimates and scenario information for the 2020 GOM Supplemental EIS will include a range that encompasses the estimated resources and reasonably foreseeable post-lease activities that may result from a single proposed lease sale. At the completion of this Supplemental EIS process, a decision will be made only for the first proposed 2020 GOM lease sale. A separate decision will be made for the subsequent proposed GOM lease sales through 2022.

The proposed lease sales are within the same geographic scope, range of predicted activities, and dates as those analyzed in the 2017-2022 GOM Multisale EIS and 2018 GOM Supplemental EIS. Therefore, BOEM will continue to tier from the 2017-2022 GOM Multisale EIS and 2018 GOM Supplemental EIS, and will begin preparation of the 2020 GOM Supplemental EIS before the 2019-2024 National Program is finalized. Should the GOM lease sales ultimately included in the 2019-2024 National Program differ substantially from those scheduled previously, BOEM will refine the analyses in the 2020 GOM Supplemental EIS or prepare an additional supplemental EIS, as appropriate, to support an individual lease sale decision. Under 40 CFR 1502.9 scoping is not required for a Supplemental EIS. Given the recent publication of the 2017-2022 GOM Multisale EIS and 2018 GOM Supplemental EIS, BOEM is not conducting formal scoping for the 2020 GOM Supplemental EIS. This Notice of Intent (NOI) serves to announce the preparation of the Gulf of Mexico Outer Continental Shelf Lease Sales: 2020, Draft Supplemental Environmental Impact Statement (Draft 2020 GOM Supplemental EIS).

The 2020 GOM Supplemental EIS analysis will focus on the potential environmental effects from an oil and gas lease sale offering all available unleased acreage in the GOM, including the Western and Central Planning Areas, and the portion of the Eastern Planning Area not subject to Congressional moratorium (i.e., the proposed action), including the effects of all reasonably foreseeable exploration, development, and production activities that may result from the lease sale. In addition to the no action alternative (i.e., cancel the lease sale), other alternatives will be considered for each proposed lease sale, such as offering individual or multiple planning areas for lease (rather than a regionwide sale) or potentially deferring certain areas from the proposed lease sales. Practicable means of mitigating potential impacts from the proposed action will also be analyzed in the 2020 GOM Supplemental EIS.

Cooperating Agencies: BOEM invites other Federal agencies, and State, Tribal, and local governments to consider becoming cooperating agencies in the preparation of the 2020 GOM Supplemental EIS. BOEM invites qualified government entities to inquire about cooperating agency status for this Supplemental EIS. Following the guidelines from the Council on Environmental Quality (CEQ), qualified agencies and governments are those with “jurisdiction by law or special expertise” (40 CFR 1508.5). Potential cooperating agencies should consider their authority and capacity to assume the responsibilities of a cooperating agency and should remember that an agency's role in the environmental analysis neither enlarges nor diminishes the final decisionmaking authority of any other agency involved in the NEPA process. Upon request, BOEM will provide potential cooperating agencies with a written summary of expectations for cooperating agencies, including time schedules and critical action dates, milestones, responsibilities, scope and detail of cooperating agencies' contributions, and availability of predecisional information. BOEM anticipates this summary will form the basis for a Memorandum of Agreement between BOEM and any cooperating agency. Agencies should also consider the “Factors for Determining Cooperating Agency Status” in Attachment 1 to CEQ's January 30, 2002, Memorandum for the Heads of Federal Agencies: Cooperating Agencies in Implementing the Procedural Requirements of the National Environmental Policy Act. This document is available on the internet at http://energy.gov/sites/prod/files/nepapub/nepa_documents/RedDont/G-CEQ-CoopAgenciesImplem.pdf.

BOEM, as the lead agency, will not provide financial assistance to cooperating agencies. Even if an organization is not a cooperating agency, opportunities will exist to provide information and comments to BOEM during the normal public input stages of the NEPA process.

Authority: This NOI is published pursuant to the regulations (40 CFR 1501.7) implementing the provisions of NEPA.

Dated: December 19, 2018.
Michael A. Celata,
Regional Director, Bureau of Ocean Energy Management, Gulf of Mexico OCS Region.

[FR Doc. 2018-27877 Filed 12-21-18; 8:45 am]

BILLING CODE 4310-MR-P